NUCLEAR REGULATORY COMMISSION

[Docket No. 50-336]

Northeast Nuclear Energy Company, et al., Millstone Nuclear Power Station, Unit No. 2; Notice of Consideration of Issuance of Amendment to Facility Operating License and Opportunity for a Hearing; Correction

AGENCY: Nuclear Regulatory Commission.

ACTION: Notice of issuance; correction.

SUMMARY: This document corrects a notice appearing in the Federal Register on April 23, 2001 (66 FR 20485), that considers issuance of an amendment to Facility Operating License No. DPR-65, issued to Northeast Nuclear Energy Company, et al. This action is necessary to correct an erroneous date.

FOR FURTHER INFORMATION CONTACT: Daniel S. Collins, Office of Nuclear Reactor Regulation, Nuclear Regulatory Commission, Washington, DC 20555-0001, telephone: 301-415-1427, e-mail: DXC1@nrc.gov.

SUPPLEMENTARY INFORMATION: On page 20485, in the third column, in the first complete paragraph, the date is changed from “May 21, 2001,” to read “May 23, 2001.”

Dated in Rockville, Maryland, this 24th day of April 2001.
For the Nuclear Regulatory Commission.
Michael T. Lesar,
Chief, Rules and Directives Branch, Division of Administrative Services, Office of Administration.

[FR Doc. 01-10617 Filed 4-27-01; 8:45 am]

BILLING CODE 7590-01-P